NUCLEAR REGULATORY COMMISSION

[NRC-2014-0252]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from October 30, 2014 to November 12, 2014. The last biweekly notice was published on November 12, 2014.

DATES: Comments must be filed by December 26, 2014. A request for a hearing must be filed by January 26, 2015.

ADDRESSES: You may submit comments by any of the following methods (unless this document describes a different method for submitting comments on a specific subject):

• Federal Rulemaking Web site: Go to http://www.regulations.gov and search for Docket ID NRC-2014-0252. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Sandra Figueroa, Office of Nuclear Reactor Regulation, U.S. Nuclear Regulatory Commission, Washington, DC 20555-0001; telephone: 301-415-1262, email: sandra.figueroa@nrc.gov.

SUPPLEMENTARY INFORMATION:

I. Obtaining Information and Submitting Comments

A. Obtaining Information

Please refer to Docket ID NRC-2014-0252 when contacting the NRC about the availability of information for this action. You may obtain publicly-available information related to this action by any of the following methods:

• Federal Rulemaking Web site: Go to http://www.regulations.gov and search for Docket ID NRC-2014-0252.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0252 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR Part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc., Docket No. 50-336, Millstone Power Station, Unit 2, New London County, Connecticut

Date of amendment request: March 28, 2014. A publicly-available version is in ADAMS under Accession No. ML14093A027.

Description of amendment request: The amendment would make changes to the Millstone Power Station, Unit 2 (MPS2) Technical Specifications (TSs). The proposed changes delete the TS Index and make administrative changes and corrections to the TSs.

Basis for proposed no significant hazards consideration determination: As required by 10 CFR 50.91(a), the licensee has provided its analysis of the issue of no significant hazards consideration, which is presented below:

1. Do the proposed changes involve a significant increase in the probability or consequences of an accident previously evaluated?

Response: No.

The proposed changes are administrative in nature. The proposed changes remove the TS Index and make other editorial and administrative corrections to the TSs. These administrative changes are not initiators of any accident previously evaluated, and, consequently, the probability and consequence of an accident previously evaluated is not significantly increased.

Therefore, the proposed changes do not involve a significant increase in the probability or consequences of an accident previously evaluated.

2. Do the proposed changes create the possibility of a new or different kind of accident from any accident previously evaluated?

Response: No.

The proposed changes are administrative in nature so no new or different accidents result from the proposed changes. The changes do not involve a physical alteration of the plant (i.e., no new or different type of equipment will be installed), a change in the method of plant operation, or new operator actions. The changes do not alter assumptions made in the safety analysis.

Therefore, the proposed changes do not create the possibility of a new or different kind of accident from any previously evaluated.

3. Do the proposed changes involve a significant reduction in the margin of safety?

Response: No.

The proposed administrative changes do not involve a change in the method of plant operation, do not affect any accident analyses, and do not relax any safety system settings.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Benjamin G. Beasley.

Dominion Nuclear Connecticut, Inc., Docket No. 50-336, Millstone Power Station (MPS), Unit 2, New London County, Connecticut

Date of amendment request: April 11, 2014. A publicly-available version is in ADAMS under Accession No. ML14112A072.

Description of amendment request: The proposed amendment would revise the Technical Specifications (TSs) to add the Framatome-ANP (AREVA) topical report for the M5® (hereafter referred as M5) fuel rod cladding material to TS 6.9.1.8.b, “Core Operating Limits Report.” The M5 fuel rod cladding material was approved by the NRC in Topical Report BAW-10240(P)(A), Revision 0, “Incorporation of M5™ Properties in FramatomeANP Approved Methods.”

Basis for proposed no significant hazards consideration determination: As required by 10 CFR 50.91(a), the licensee has provided its analysis of the issue of no significant hazards consideration, which is presented below:

1. Does the proposed change involve a significant increase in the probability or consequences of an accident previously evaluated?

Response: No.

The proposed TS change is: (1) Adding BAW-10240(P)(A) to the list of approved methodologies for determining core operating limits at MPS2.

The proposed change to TS 6.9.1.8.b permits the use of the appropriate methodology to analyze accidents for cores containing fuel with M5 cladding to ensure that the plant continues to meet applicable design criteria and safety analysis acceptance criteria. The proposed change to the list of NRC-approved methodologies listed in TS 6.9.1.8.b has no impact on plant operation and configuration. The list of methodologies in TS 6.9.1.8.b does not impact either the initiation of an accident or the mitigation of its consequences.

The NRC has previously approved use of M5 fuel rod cladding material provided that licensees ensure compliance with the conditions set forth in the NRC SE [Safety Evaluation] for topical report BAW-10240(P)(A). Confirmation that these conditions are satisfied is performed under 10 CFR 50.59 as part of the normal core reloads process.

Therefore, the proposed change does not involve a significant increase in the probability or consequences of an accident previously evaluated.

2. Does the proposed change create the possibility of a new or different kind of accident from any accident previously evaluated?

Response: No.

The proposed addition of topical report BAW-10240(P)(A) to the list of NRC approved methodologies listed in TS 6.9.1.8.b, has no impact on any plant configuration or system performance. There is no change to the parameters within which the plant is normally operated, and thus, the possibility of a new or different type of accident is not created.

Therefore, the addition of BAW-10240(P)(A) to TS 6.9.1.8.b does not create the possibility of a new or different kind of accident or malfunction from those previously evaluated within the FSAR.

3. Does the proposed change involve a significant reduction in a margin of safety?

Response: No.

The proposed change to the list of NRC-approved methodologies listed in TS 6.9.1.8.b has no impact on any plant configuration or system performance. Topical report BAW-10240(P)(A) has been reviewed and approved by the NRC for use with M5 fuel rod cladding. Approved methodologies will be used to ensure that the plant continues to meet applicable design criteria and safety analysis acceptance criteria.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Benjamin G. Beasley.

Dominion Nuclear Connecticut, Inc., Docket No. 50-423, Millstone Power Station, Unit 3, New London County, Connecticut

Date of amendment request: November 6, 2013. A publicly-available version is in ADAMS under Accession No. ML13322A415.

Description of amendment request: The amendment would revise Technical Specification (TS) 3/4.5.4, “Refueling Water Storage Tank,” and TS 3/4.6.2.1, “Depressurization and Cooling Systems, Containment Quench Spray System [QSS],” to provide additional operational margin for control of the Refueling Water Storage Tank (RWST) temperature.

Basis for proposed no significant hazards consideration determination: As required by 10 CFR 50.91(a), the licensee has provided its analysis of the issue of no significant hazards consideration, which is presented below:

1. Does the proposed change involve a significant increase in the probability or consequences of an accident previously evaluated?

Response: No.

The proposed change affects the allowable limit for RWST temperature. Since the RWST is a passive component used as a water supply for ECCS [Emergency Core Cooling System] and QSS that operate only following an accident, the proposed change cannot cause an accident or affect the probability of any accident.

Evaluations have been performed to address the impact of raising the maximum RWST temperature on the performance of the ECCS and QSS. The evaluations demonstrate that NPSH [Net Positive Suction Head] margin would be maintained for the ECCS and QSS pumps that take suction from the RWST following a Safety Injection Actuation Signal or a Containment Depressurization Actuation Signal. Pipe and component stress limits continue to be met at the higher RWST temperature. Thus, it is concluded that the ECCS and QSS will continue to meet the design basis requirements.

The FSAR [Final Safety Analysis Report] Chapter 15 accident analyses and Chapter 6 containment analyses were performed assuming an RWST temperature that bounds the proposed technical specification change. Thus, the proposed change has no significant impact on the consequences of an accident as documented in the current analysis of record.

Changing the ACTION statement to include the wording “the next” is administrative and editorial in nature. This proposed change does not alter the effective technical content of the ACTION statement.

Thus, it is concluded that the proposed changes do not involve a significant increase in the probability or consequences of any analyzed accident.

2. Does the proposed change create the possibility of a new or different kind of accident from any accident previously evaluated?

Response: No.

The proposed change only increases the allowable range for the RWST temperature. As such, it cannot initiate a transient or accident. Evaluations have been performed that demonstrate that the ECCS and QSS systems will have adequate NPSH and the design bases will be met.

Thus, the proposed change cannot create the possibility of a new or different kind of accident.

3. Does the proposed change involve a significant reduction in a margin of safety?

Response: No.

Evaluations have been performed that demonstrate that the ECCS and QSS pumps will maintain NPSH margin when taking suction from the RWST at the higher temperature limit. The mechanical component stress requirements will continue to be met at the higher temperature.

Thus, the ECCS and QSS will continue to operate as required to mitigate a design basis accident.

The accident analyses were performed with assumed RWST temperatures that bound this proposed change. The containment analysis and accident analyses demonstrate that the design basis requirements are met.

Thus, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Benjamin G. Beasley.

Dominion Nuclear Connecticut, Inc., Docket No. 50-423, Millstone Power Station (MPS), Unit 3, New London County, Connecticut

Date of amendment request: March 28, 2014. A publicly-available version is in ADAMS under Accession No. ML14093A026.

Description of amendment request: The amendment would make the following changes to the MPS3 Technical Specifications (TSs):

(a) Delete TS index pages i through xix.

(b) Replace the first sub-letter under TS Table 4.3-2 Item 4, Steam Line Isolation—“Manual Initiation,” which currently appears as sub-letter “d” on Page 3/4 3-37, with sub-letter “a.”

(c) Revise TS 6.3.2, Facility Staff Qualifications, from:

“If the operations manager does not hold a senior reactor operator license for Millstone Unit No. 3, then the operations manager shall have held a senior reactor operator license at a pressurized water reactor, and the assistant operations manager shall hold a senior reactor operator license for Millstone Unit No. 3.”

to:

“The operations manager or at least one operations middle manager shall hold a senior reactor operator license for Millstone Unit No. 3.”

(d) Replace the term “SORC” in paragraph b of the “Licensee initiated changes to the REMODCM,” described in TS 6.13 with the term “FSRC.”

Basis for proposed no significant hazards consideration determination: As required by 10 CFR 50.91(a), the licensee has provided its analysis of the issue of no significant hazards consideration, which is presented below:

1. Do the proposed changes involve a significant increase in the probability or consequences of an accident previously evaluated?

Response: No.

The proposed changes are administrative in nature. The proposed changes remove the TS Index and make other editorial and administrative corrections to the TSs. These administrative changes are not initiators of any accident previously evaluated, and, consequently, the probability and consequences of an accident previously evaluated is not significantly increased.

Therefore, the proposed changes do not involve a significant increase in the probability or consequences of an accident previously evaluated.

2. Do the proposed changes create the possibility of a new or different kind of accident from any accident previously evaluated?

Response: No.

The proposed changes are administrative in nature so no new or different accidents result from the proposed changes. The changes do not involve a physical alteration of the plant (i.e., no new or different type of equipment will be installed), a change in the method of plant operation, or new operator actions. The changes do not alter assumptions made in the safety analysis.

Therefore, the proposed changes do not create the possibility of a new or different kind of accident from any previously evaluated.

3. Do the proposed changes involve a significant reduction in the margin of safety?

Response: No.

The proposed administrative changes do not involve a change in the method of plant operation, do not affect any accident analyses, and do not relax any safety system settings.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Benjamin G. Beasley.

Entergy Operations, Inc., System Energy Resources, Inc., South Mississippi Electric Power Association, and Entergy Mississippi, Inc., Docket No. 50-416, Grand Gulf Nuclear Station, Unit 1, Claiborne County, Mississippi

Date of amendment request: August 1, 2014. A publicly-available version is in ADAMS under Accession No. ML14216A383.

Description of amendment request: The proposed amendment would revise the allowable values in Technical Specification (TS) Table 3.3.5.1-1, “Emergency Core Cooling Instrumentation,” Functions 4.c and 5.c; Table 3.3.6.3-1, “RHR [Residual Heat Removal] Containment Spray System Instrumentation,” Function 4; and Table 3.3.8.1-1, “Loss of Power Instrumentation,” Functions 1.c, 2.c, and 2.e. Revisions of setpoint calculations supporting the above tables, identified that the allowable values in the above functions are non-conservative. The licensee has noted that while the allowable values are non-conservative, the setpoints remain conservative.

Basis for proposed no significant hazards consideration determination: As required by 10 CFR 50.91(a), the licensee has provided its analysis of the issue of no significant hazards consideration, which is presented below:

1. Does the proposed change involve a significant increase in the probability or consequences of an accident previously evaluated?

Response: No.

The proposed TS allowable value changes involve changes in the margin between the allowable values and the setpoints. The proposed TS changes do not change the trip setpoints. The proposed TS changes do not degrade the performance of, or increase the challenges to, any safety systems assumed to function in the accident analysis. The proposed TS changes do not impact the usefulness of the [surveillance requirements] SRs in evaluating the operability of required systems and components, or the way in which the surveillances are performed. In addition, the [* * *] trip setpoints for the associated TRM [Technical Requirements Manual] functions are not considered an initiator of any analyzed accident, nor does a revision to the allowable value introduce any accident initiators. Therefore, the proposed change does not involve a significant increase in the probability of an accident previously evaluated.

The consequences of a previously evaluated accident are not significantly increased. The proposed change does not affect the performance of any equipment credited to mitigate the radiological consequences of an accident. Evaluation of the proposed TS changes demonstrated that the availability of credited equipment is not significantly affected because of the reduction in margin between the allowable values and the trip setpoints.

Therefore, the proposed change does not involve a significant increase in the probability or consequences of an accident previously evaluated.

2. Does the proposed change create the possibility of a new or different kind of accident from any accident previously evaluated?

Response: No.

The proposed TS changes involves changes in allowable value settings to correct non-conservative values. The proposed TS changes do not introduce any failure mechanisms of a different type than those previously evaluated, since there are no physical changes being made to the facility.

No new or different equipment is being installed. No installed equipment is being operated in a different manner. As a result, no new failure modes are being introduced. The way surveillance tests are performed remains unchanged.

Therefore, the proposed change does not create the possibility of a new or different kind of accident from any accident previously evaluated.

3. Does the proposed change involve a significant reduction in a margin of safety?

Response: No.

The proposed TS change involves changes in the allowable value settings to correct non-conservative values. The impact of the change on system availability is not significant, based on the frequency of the testing being unchanged, the existence of redundant systems and equipment, and overall system reliability. The proposed change does not significantly impact the condition or performance of structures, systems, and components relied upon for accident mitigation. The proposed change does not result in any hardware changes or in any changes to the analytical limits assumed in accident analyses. Existing operating margin between plant conditions and actual plant setpoints is not significantly reduced due to these changes. The proposed change does not impact any safety analysis assumptions or results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Douglas A. Broaddus.

Exelon Generation Company, LLC (EGC), Docket Nos. 50-317 and 50-318, Calvert Cliffs Nuclear Power Plant, Units 1 and 2, Calvert County, Maryland

Date of amendment request: September 18, 2014. A publicly-available version is in ADAMS under Accession No. ML14265A219.

Description of amendments request: The amendment(s) would revise Technical Specification (TS) 5.5.16, “Containment Leakage Rate Testing Program” to allow for permanent extensions of Type A Integrated Leak Rate Testing (ILRT) and Type C Leak Rate Testing frequencies to 15 years and 75 months, respectively.

Basis for proposed no significant hazards consideration determination: As required by 10 CFR 50.91(a), the licensee has provided its analysis of the issue of no significant hazards consideration, which is presented below:

1. Does the proposed change involve a significant increase in the probability or consequences of an accident previously evaluated?

Response: No.

The proposed amendment to the TS involves the extension of the Calvert Cliffs Unit 1 and 2 Type A containment test interval to 15 years and the extension of the Type C test interval to 75 months. The current Type A test interval of 120 months (10 years) would be extended on a permanent basis to no longer than 15 years from the last Type A test. The current Type C test interval of 60 months for selected components would be extended on a performance basis to no longer than 75 months. Extensions of up to nine months (total maximum interval of 84 months for Type C tests) are permissible only for non-routine emergent conditions. The proposed extension does not involve either a physical change to the plant or a change in the manner in which the plant is operated or controlled. The containment is designed to provide an essentially leak tight barrier against the uncontrolled release of radioactivity to the environment for postulated accidents. As such, the containment and the testing requirements invoked to periodically demonstrate the integrity of the containment exist to ensure the plant's ability to mitigate the consequences of an accident, and do not involve the prevention or identification of any precursors of an accident. Therefore, this proposed extension does not involve a significant increase in the probability of an accident previously evaluated.

As documented in NUREG-1493, Type B and C tests have identified a very large percentage of containment leakage paths, and the percentage of containment leakage paths that are detected only by Type A testing is very small. The Calvert Cliffs Unit 1 and 2 Type A test history supports this conclusion.

The integrity of the containment is subject to two types of failure mechanisms that can be categorized as (1) activity based and (2) time based. Activity based failure mechanisms are defined as degradation due to system and/or component modifications or maintenance. Local leak rate test requirements and administrative controls such as configuration management and procedural requirements for system restoration ensure that containment integrity is not degraded by plant modifications or maintenance activities. The design and construction requirements of the containment combined with the containment inspections performed in accordance with ASME [American Society of Mechanical Engineers] Section Xl, the Maintenance Rule, and TS requirements serve to provide a high degree of assurance that the containment would not degrade in a manner that is detectable only by a Type A test. Based on the above, the proposed extension does not significantly increase the consequences of an accident previously evaluated.

The proposed amendment also deletes exceptions previously granted to allow one time extensions of the ILRT test frequency for both Units 1 and 2 and exceptions from conducting post modification ILRT following replacement of the Units 1 and 2 Steam Generators. These exceptions were for things that have already taken place so their deletion is solely an administrative action that has no effect on any component and no impact on how the units are operated.

Therefore, the proposed change does not result in a significant increase in the probability or consequences of an accident previously evaluated.

2. Does the proposed change create the possibility of a new or different kind of accident from any accident previously evaluated?

Response: No.

The proposed amendment to the TS involves the extension of the Calvert Cliffs Unit 1 and 2 Type A containment test interval to 15 years and the extension of the Type C test interval to 75 months. The containment and the testing requirements to periodically demonstrate the integrity of the containment exist to ensure the plant's ability to mitigate the consequences of an accident do not involve any accident precursors or initiators. The proposed change does not involve a physical change to the plant (i.e., no new or different type of equipment will be installed) or a change to the manner in which the plant is operated or controlled.

The proposed amendment also deletes exceptions previously granted to allow one time extensions of the ILRT test frequency for both Units 1 and 2 and exceptions from conducting post modification ILRT following replacement of the Units 1 and 2 Steam Generators. These exceptions were for things that have already taken place so their deletion is solely an administrative action that does not result in any change in how the units are operated.

Therefore, the proposed change does not create the possibility of a new or different kind of accident from any previously evaluated.

3. Does the proposed change involve a significant reduction in a margin of safety?

Response: No.

The proposed amendment to TS 5.5.16 involves the extension of the Calvert Cliffs Unit 1 and 2 Type A containment test interval to 15 years and the extension of the Type C test interval to 75 months for selected components. This amendment does not alter the manner in which safety limits, limiting safety system set points, or limiting conditions for operation are determined. The specific requirements and conditions of the TS Containment Leak Rate Testing Program exist to ensure that the degree of containment structural integrity and leak-tightness that is considered in the plant safety analysis is maintained. The overall containment leak rate limit specified by TS is maintained.

The proposed change involves only the extension of the interval between Type A containment leak rate tests and Type C tests for Calvert Cliffs Unit 1 and 2. The proposed surveillance interval extension is bounded by the 15 year ILRT Interval and the 75 month Type C test interval currently authorized within NEI [Nuclear Energy Institute] 94-01, Revision 3-A. Industry experience supports the conclusion that Type B and C testing detects a large percentage of containment leakage paths and that the percentage of containment leakage paths that are detected only by Type A testing is small. The containment inspections performed in accordance with ASME Section XI and TS serve to provide a high degree of assurance that the containment would not degrade in a manner that is detectable only by Type A testing. The combination of these factors ensures that the margin of safety in the plant safety analysis is maintained. The design, operation, testing methods and acceptance criteria for Type A, B, and C containment leakage tests specified in applicable codes and standards would continue to be met, with the acceptance of this proposed change, since these are not affected by changes to the Type A and Type C test intervals.

The proposed amendment also deletes exceptions previously granted to allow one time extensions of the ILRT test frequency for both Units 1 and 2 and exceptions from conducting post modification ILRT following replacement of the Units 1 and 2 Steam Generators. These exceptions were for things that have already taken place so their deletion is an administrative action and does not change how the units are operated and maintained, thus there is no reduction in any margin of safety.

Therefore, the proposed change does not involve a significant reduction in a margin of safety.

The NRC staff has reviewed the licensee's analysis and, based on this review, it appears that the three standards of 10 CFR 50.92(c) are satisfied. Therefore, the NRC staff proposes to determine that the amendments request involves no significant hazards consideration.

Attorney for licensee: J. Bradley Fewell, Exelon Generation, 200 Exelon Way, Kennett Square, PA 19348.

NRC Branch Chief: Benjamin G. Beasley.

Exelon Generation Company, LLC (EGC), Docket Nos. 50-220 and 50-410, Nine Mile Point Nuclear Station, Units 1 and 2 (NMP1 And NMP2), Oswego County, New York

Date of amendment request: September 11, 2014. A publicly-available version is in ADAMS under Accession No. ML14254A007.

Description of amendment request: The proposed amendments would revise the licensed operator training and qualification education and experience eligibility requirements specified in NMP1 Technical Specification (TS) 6.3.1 and NMP2 TS 5.3.1 to the eligibility requirements specified in this License Amendment Request. The proposed eligibility requirements correspond to the eligibility requirements contained in the current National Academy for Nuclear Training (NANT) Academy Document, ACAD 10-001, “Guidelines for Initial Training and Qualification of Licensed Operators,” dated February 2010.

Basis for proposed no significant hazards consideration determination: As required by 10 CFR 50.91(a), the licensee has provided its analysis of the issue of no significant hazards consideration, which is presented below:

1. Does the proposed amendment involve a significant increase in the probability or consequences of an accident previously evaluated?

Response: No.

The NRC considered the impact of previously evaluated accidents during the rulemaking process, and by promulgation of the revised 10 CFR 55 rule, determined that this impact remains acceptable when licensees have an accredited licensed operator training program which is based on a Systems Approach to Training (SAT). EGC maintains an Institute of Nuclear Power Operations (INPO) National Academy for Nuclear Training (NANT) accredited program which is based on a SAT. The NRC has concluded in Regulatory Information Summary (RIS) 2001-01, “Eligibility of Operator License Applicants,” and NUREG-1021, “Operator Licensing Examination Standards For Power Reactors,” that standards and guidelines applied by INPO in their accredited training programs are equivalent to those put forth by or endorsed by the NRC. Therefore, maintaining an INPO accredited SAT-based licensed operator training program is equivalent to maintaining an NRC approved licensed operator training program which conforms to applicable NRC Regulatory Guidelines or NRC endorsed industry standards. The proposed changes conform to NANT ACAD 10-001 licensed operator education and experience eligibility requirements.

Therefore, the proposed change does not involve a significant increase in the probability or consequences of an accident previously evaluated.

2. Does the proposed amendment create the possibility of a new or different kind of accident from any accident previously evaluated?

Response: No.

The proposed amendment involves changes to the licensed operator training programs, which are administrative in nature. The EGC licensed operator training programs have been accredited by the National Nuclear Accrediting Board (NNAB) and are based on a SAT, which the NRC has previously found to be acceptable.

Therefore, the proposed change does not create the possibility of a new or different kind of accident from any accident previously evaluated.

3. Does the proposed amendment involve a significant reduction in a margin of safety?

Response: No.

The proposed TS changes are administrative in nature. The proposed TS changes do not affect plant design, hardware, system operation, or procedures for accident mitigation systems. The proposed changes do not significantly impact the performance or proficiency requirements for licensed operators. As a result, the ability of the plant to respond to and mitigate accidents is unchanged by the proposed TS changes.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Donald P. Ferraro, Assistant General Counsel, Exelon Generation Company, LLC, 200 Exelon Way, Suite 305, Kennett Square, PA 19348.

NRC Branch Chief: Benjamin G. Beasley.

FirstEnergy Nuclear Operating Company, Docket No. 50-440, Perry Nuclear Power Plant, Unit 1, Perry, OH

Date of amendment request: September 12, 2014. A publicly-available version is in ADAMS under Accession No. ML14255A150.

Description of amendment request: The proposed amendment modifies the Technical Specification (TS) definition of SHUTDOWN MARGIN (SDM) to require determination of SDM at the temperature that represents the most reactive state throughout the operating cycle. The proposed changes are intended to be consistent with the approved Technical Specification Task Force (TSTF) Traveler TSTF-535, Revision 0.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises the definition of Shutdown Margin (SDM). SDM is not an initiator to any accident previously evaluated. Accordingly, the proposed change to the definition of SDM has no effect on the probability of any accident previously evaluated. SDM is an assumption in the analysis of some previously evaluated accidents and inadequate SDM could lead to an increase in consequences for those accidents. However, the proposed change revises the SDM definition to ensure that the correct SDM is determined for all BWR [boiling-water reactor] fuel types at all times during the fuel cycle.

Therefore, the proposed change does not involve a significant increase in the probability or consequences of an accident previously evaluated.

2. Does the proposed amendment create the possibility of a new or different kind of accident from any previously evaluated?

Response: No.

The proposed change revises the definition of SDM. The change does not involve a physical alteration of the plant that is, no new or different type of equipment will be installed or a change in the methods governing normal plant operations. The change does not alter assumptions made in the safety analysis regarding SDM.

Therefore, the proposed change does not create the possibility of a new or different kind of accident from any previously evaluated.

3. Does the proposed amendment involve a significant reduction in a margin of safety?

Response: No.

The proposed change revises the definition of SDM. The proposed change does not alter the manner in which safety limits, limiting safety system settings or limiting conditions for operation are determined. The proposed change ensures that the SDM assumed in determining safety limits, limiting safety system settings or limiting conditions for operation is correct for all BWR fuel types at all times during the fuel cycle.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Travis L. Tate.

Florida Power and Light Company, Docket Nos. 50-250 and 50-251, Turkey Point Nuclear Generating Units 3 and 4, Miami-Dade County, Florida

Date of amendment request: August 29, 2014. A publicly-available version is in ADAMS under Accession No. ML14252A230.

Description of amendment request: The amendments would modify the Technical Specifications (TSs) by removing TS 3/4.4.7, “Chemistry,” which provides limits on the oxygen, chloride, and fluoride content in the reactor coolant system to minimize corrosion. The licensee requested that these requirements be relocated to the Updated Final Safety Analysis Report (UFSAR) and related procedures and be controlled in accordance with 10 CFR 50.59, “Changes, tests, and experiments.”

Basis for proposed no significant hazards consideration determination: As required by 10 CFR 50.91(a), the licensee provided its analysis of the issue of no significant hazards consideration, which is presented as follows:

1. Does the proposed change involve a significant increase in the probability or consequences of an accident previously evaluated?

Response: No.

The proposed change acts to remove current Reactor Coolant System (RCS) chemistry limits and monitoring requirements from the TS and relocate the requirements to the UFSAR and related procedures. Monitoring and maintaining RCS chemistry minimizes the potential for corrosion of RCS piping and components. Corrosion effects are considered a long-term impact on RCS structural integrity. Because RCS chemistry will continue to be monitored and controlled, removing the current TS requirements and relocating the requirements to the UFSAR and related procedures will not present an adverse impact to the RCS and subsequently, will not impact the probability or consequences of an accident previously evaluated. Furthermore, once relocated to the UFSAR and related procedures, changes to RCS chemistry limits and monitoring requirements will be controlled in accordance with 10 CFR 50.59.

Therefore, the proposed change does not involve a significant increase in the probability or consequences of any accident previously evaluated.

2. Does the proposed change create the possibility of a new or different kind of accident from any accident previously evaluated?

Response: No.

The proposed change acts to remove current Reactor Coolant System (RCS) chemistry limits and monitoring requirements from the TS and relocate the requirements to the UFSAR and related procedures. The proposed change does not introduce new modes of plant operation and it does not involve physical modifications to the plant (no new or different type of equipment will be installed). There are no changes in the method by which any safety related plant structure, system, or component (SSC) performs its specified safety function. As such, the plant conditions for which the design basis accident analyses were performed remain valid.

No new accident scenarios, transient precursors, failure mechanisms, or limiting single failures will be introduced as a result of the proposed change. There will be no adverse effect or challenges imposed on any SSC as a result of the proposed change.

Therefore, the proposed change does not create the possibility of a new or different kind of accident from any accident previously evaluated.

3. Does the proposed change involve a significant reduction in the margin of safety?

Response: No.

Margin of safety is related to confidence in the ability of the fission product barriers to perform their accident mitigation functions. The proposed change acts to remove current Reactor Coolant System (RCS) chemistry limits and monitoring requirements from the TS and relocate the requirements to the UFSAR and related procedures. The proposed change will maintain limits on RCS chemistry parameters and will continue to provide associated monitoring requirements. The proposed change does not physically alter any SSC. There will be no effect on those SSCs necessary to assure the accomplishment of protection functions. There will be no impact on the overpower limit, departure from nucleate boiling ratio (DNBR) limits, loss of cooling accident peak cladding temperature (LOCA PCT), or any other margin of safety. The applicable radiological dose consequence acceptance criteria will continue to be met.

Therefore, the proposed change does not involve a significant reduction in a margin of safety.

The NRC staff reviewed the licensee's analysis and, based on this review, it appears that the three standards of 50.92(c) are satisfied. Therefore, the NRC staff proposes to determine that the amendment request involves no significant hazards consideration.

Attorney for licensee: William S. Blair, Managing Attorney—Nuclear, Florida Power & Light Company, 700 Universe Blvd. MS LAW/JB, Juno Beach, Florida 33408-0420.

Acting NRC Branch Chief: Lisa M. Regner.

PPL Susquehanna, LLC, Docket Nos. 50-387 and 50-388, Susquehanna Steam Electric Station (SSES), Units 1 and 2, Luzerne County, Pennsylvania

Date of amendment request: August 11, 2014. A publicly-available version is available in ADAMS under Accession No. ML14223A780.

Description of amendment request: The amendment proposes changes to SSES, Units 1 and 2, Technical Specification (TS) 3.4.10, “RCS [Reactor Coolant System] Pressure and Temperature (P/T) Limits,” which includes revisions to the P/T Limits curves. The primary effect of the revision is to provide P/T Limits curves that extend into the vacuum region to mitigate the risk of a level transient during startup and shutdown.

Basis for proposed no significant hazards consideration determination: As required by 10 CFR 50.91(a), the licensee has provided its analysis of the issue of no significant hazards consideration, which is presented below, along with NRC edits in square brackets:

1. Does the proposed change involve a significant increase in the probability or consequences of an accident previously evaluated?

Response: No.

The proposed changes request that the P/T limits curves in TS 3.4.10, “RCS Pressure and Temperature (P/T) Limits” be revised by extending each of the P/T Limits curves below 0 psig to allow operation with the RPV [reactor pressure vessel] at a vacuum.

The P/T curves are used as operational limits during heatup or cooldown maneuvering, when pressure and temperature indications are monitored and compared to the applicable curve to determine that operation is within the allowable region. The P/T curves provide assurance that station operation is consistent with previously evaluated accidents.

Thus, the probability of an accident or the radiological consequences of an accident previously evaluated are not significantly increased.

2. Does the proposed change create the possibility of a new or different kind of accident from any accident previously evaluated?

Response: No.

The proposed changes do not change the response of any plant equipment to transient conditions. The proposed changes do not introduce any new equipment, modes of system operation, or failure mechanisms.

Therefore, there are no new types of failures or new or different kinds of accidents or transients that could be created by these changes. The proposed changes do not create the possibility of a new or different kind of accident from any accident previously evaluated.

3. Does the proposed change involve a significant reduction in a margin of safety?

Response: No.

The consequences of a previously evaluated accident are not increased by these proposed changes, since the Loss of Coolant Accident analyzed in the FSAR [Final Safety Analysis Report] assumes a complete break of the reactor coolant pressure boundary. The proposed changes to the P/T Limits curves do not change this assumption.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Bryan A. Snapp, Esquire, Assoc. General Counsel, PPL Services Corporation, 2 North Ninth St., GENTW3, Allentown, PA 18101-1179.

NRC Branch Chief: Meena K. Khanna.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Energy Northwest, Docket No. 50-397, Columbia Generating Station, Benton County, Washington

Date of application for amendment: March 18, 2014.

Brief description of amendment: The amendment adopts Technical Specification (TS) Task Force (TSTF) change traveler TSTF-535, Revision 0, “Revise Shutdown Margin Definition to Address Advanced Fuel Designs,” at Columbia Generating Station. The notice of availability of TSTF-535, Revision 0, was published in the Federal Register on February 26, 2013 (78 FR 13100).

Date of issuance: November 12, 2014.

Effective date: As of its date of issuance and shall be implemented within 60 days from the date of issuance.

Amendment No.: 228. A publicly-available version is in ADAMS under Accession No. ML14290A360; documents related to this amendment are listed in the Safety Evaluation enclosed with the amendment.

Renewed Facility Operating License No. NPF-21: The amendment revised the Facility Operating License and Technical Specifications.

Date of initial notice in Federal Register: July 22, 2014 (79 FR 42544).

The Commission's related evaluation of the amendment is contained in a Safety Evaluation dated November 12, 2014.

No significant hazards consideration comments received: No.

Dominion Energy Kewaunee, Inc. (DEK), Docket No. 50-305, Kewaunee Power Station (KPS), Kewaunee County, Wisconsin

Date of amendment request: January 16, 2014, as supplemented by letters dated June 19, 2014, and September 9, 2014.

Brief description of amendment: The amendment authorizes revision to the Dominion Energy Kewaunee, Inc., emergency plan and emergency action level scheme to conform to the permanent shut down and defueled status of Kewaunee Power Station (KPS). The review considered the storage of spent nuclear fuel in the spent fuel pool and the independent spent fuel storage installation, and the low likelihood of any credible accident resulting in radiological releases requiring offsite protective measures. The U.S. Nuclear Regulatory Commission staff has concluded that the changes to the KPS emergency plan and emergency action level scheme would provide: (1) An adequate basis for an acceptable state of emergency preparedness, and (2) reasonable assurance that adequate protective measures can and will be taken in the event of a radiological emergency based on the permanently shut down and defueled status of the KPS facility.

Date of issuance: October 31, 2014.

Effective date: As of the date of issuance and shall be implemented within 90 days of issuance.

Amendment No.: 214. A publicly-available version is in ADAMS under Accession No. ML14279A482; documents related to this amendment are listed in the Safety Evaluation enclosed with the amendment.

Renewed Facility Operating License No. DPR-43: The amendment authorizes revision to the Dominion Energy Kewaunee, Inc., Renewed Facility Operating License emergency plan and emergency action level scheme.

Date of initial notice in Federal Register: August 5, 2014 (79 FR 45472). The supplemental letters dated June 19, 2014, and September 9, 2014, provided additional information that clarified the application, did not expand the scope of the application as originally noticed, and did not change the staff's original proposed no significant hazards consideration determination as published in the Federal Register.

The Commission's related evaluation of the amendment is contained in a Safety Evaluation dated October 31, 2014.

No significant hazards consideration comments received: No.

Entergy Nuclear Operations, Inc., Docket No. 50-293, Pilgrim Nuclear Power Station, Plymouth County, Massachusetts

Date of amendment request: November 26, 2013, as supplemented by letters dated July 11, September 11, October 3, and October 16, 2014.

Brief description of amendment: The amendment revised Technical Specification (TS) 4.3.4, “Heavy Loads,” by modifying the limit imposed on the maximum weight that could travel over the irradiated fuel in the spent fuel pool. The amendment also revised TS 4.3.4 to reflect the removal of the energy absorbing pad from the spent fuel pool and installation of a leveling platform.

Date of issuance: October 31, 2014.

Effective date: As of the date of issuance, and shall be implemented prior to the start of the dry cask storage operations.

Amendment No.: 240. A publicly-available version is in ADAMS under Accession No. ML13346A026; documents related to this amendment are listed in the Safety Evaluation enclosed with the amendment.

Renewed Facility Operating License No. DPR-35: Amendment revised the License and TSs.

Date of notices in Federal Register: July 22, 2014 (79 FR 42545), as supplemented on September 22, 2014 (79 FR 56608). The supplement dated July 11, 2014, provided additional information that clarified the application, did not expand the scope of the application as originally noticed, and did not change the NRC staff's original proposed no significant hazards consideration (NSHC) determination as published in the Federal Register on July 22, 2014 (79 FR 42545).

The supplement dated September 11, 2014, expanded the scope of the application as originally noticed and, therefore, the September 11, 2014, supplement was published in the Federal Register on September 22, 2014 (79 FR 56608). The supplements dated October 3 and October 16, 2014, provided additional information that clarified the September 11, 2014, supplement, did not expand the scope as noticed, and did not change the NRC staff's proposed NSHC determination as published in the Federal Register on September 22, 2014 (79 FR 56608).

No significant hazards consideration comments received: Yes.

The notice provided an opportunity to submit comments on the Commission's proposed NSHC determination. Several comments were received and evaluated.

The Commission's related evaluation of the amendment and final NSHC determination, including the comments received, are contained in a safety evaluation dated October 31, 2014.

Entergy Nuclear Vermont Yankee, LLC and Entergy Nuclear Operations, Inc., Docket No. 50-271, Vermont Yankee Nuclear Power Station, Vernon, Vermont

Date of amendment request: December 19, 2013, as supplemented by letter dated June 25, 2014.

Description of amendment request: The amendment would change the Vermont Yankee Cyber Security Plan Implementation Schedule Milestone 8 full implementation date from December 15, 2015, to June 30, 2016. The amendment would also revise the existing operating license Security Plan license condition.

Date of Issuance: November 7, 2014.

Effective date: As of the date of issuance, and shall be implemented by December 15, 2014.

Amendment No.: 259. A publicly-available version is in ADAMS under Accession No. ML14206A710; documents related to this amendment are listed in the Safety Evaluation enclosed with the amendment.

Facility Operating License No. DPR-28: Amendment revised the License.

Date of initial notice in Federal Register: February 27, 2014 (79 FR 11149). The supplement letter dated June 25, 2014, provided additional information that clarified the application, did not expand the scope of the application as originally noticed, and did not change the NRC staff's original proposed no significant hazards consideration determination as published in the Federal Register.

The Commission's related evaluation of this amendment is contained in a Safety Evaluation dated November 7, 2014.

No significant hazards consideration comments received: No.

Exelon Generation Company, LLC, Docket Nos. 50-220 and 50-410, Nine Mile Point Nuclear Station, Units 1 and 2, Oswego County, New York

Date of application for amendment: October 7, 2013, as supplemented by letter dated June 18, 2014.

Brief description of amendment: The amendment modified the Nine Mile Point Units 1 and 2 Technical Specifications (TS) definition of “Shutdown Margin” (SDM) to require calculation of the SDM at a reactor moderator temperature of 68 °F or a higher temperature that represents the most reactive state throughout the operating cycle. This change is needed to address new Boiling Water Reactor (BWR) fuel designs which may be more reactive at shutdown temperatures above 68 °F.

The NRC staff issued a notice of opportunity for comment in the Federal Register on November 19, 2012 (77 FR 69507), on possible amendments to revise the plant-specific TS, to modify the TS definition of “Shutdown Margin” (SDM) to require calculation of the SDM at a reactor moderator temperature of 68 °F or a higher temperature that represents the most reactive state throughout the operating cycle, including a model safety evaluation and model no significant hazards consideration determination, using the consolidated line-item improvement process. The NRC staff subsequently issued a notice of availability of the models for referencing in license amendment applications in the Federal Register on February 26, 2013, (78 FR 13100).

Date of issuance: October 30, 2014.

Effective date: As of the date of issuance and shall be implemented within 60 days of issuance.

Amendment Nos.: Unit 1: 216, Unit 2: 146. A publicly-available version is in ADAMS under Accession No. ML14248A084; documents related to these amendments are listed in the Safety Evaluation enclosed with the amendments.

Renewed Facility Operating License No. DPR-63 and NPF-69: Amendment revised the Renewed Facility Operating License and Technical Specifications.

Date of initial notice in Federal Register: November 12, 2013 (78 FR 67411). The supplemental letter dated June 18, 2014, provided additional information that clarified the application, did not expand the scope of the application as originally noticed, and did not change the staff's original proposed no significant hazards consideration determination as published in the Federal Register.

The Commission's related evaluation of the amendment is contained in a Safety Evaluation dated October 30, 2014.

No significant hazards consideration comments received: No

Northern States Power Company—Minnesota (NSPM), Docket No. 50-263, Monticello Nuclear Generating Plant, Wright County, Minnesota

Date of application for amendment: October 4, 2013, as supplemented on April 29, 2014.

Brief description of amendment: The amendment changes the Site Emergency Plan (SEP) for the Monticello Nuclear Generating Plant (MNGP) by eliminating the Radwaste Operator position as one of the 60-minute responders.

Date of issuance: October 31, 2014.

Effective date: This amendment is effective as of its date of issuance and shall be implemented within 60 days from the date of issuance.

Amendment No.: 183. A publicly-available version is in the ADAMS under Accession No. ML14196A328; documents related to this amendment are listed in the Safety Evaluation enclosed with the amendment.

Facility Operating License No. DPR-22: This amendment revised the MNGP SEP.

Date of initial notice in Federal Register: July 8, 2014 (79 FR 38591).

The Commission's related evaluation of the amendment is contained in a Safety Evaluation dated October 31, 2014.

No significant hazards consideration comments received: No.

Northern States Power Company—Minnesota (NSPM), Docket No. 50-263, Monticello Nuclear Generating Plant, Wright County, Minnesota

Date of amendment request: April 4, 2014.

Brief description of amendment: The amendment revised Technical Specification 3.5.1, “ECCS [Emergency Core Cooling System]—Operating,” by removing Condition F. Condition F provides for a 72-hour completion time to restore one core spray subsystem to an operable status when both core spray subsystems are inoperable. NSPM requested approval to remove the option of having a limiting condition of operation with both core spray subsystems inoperable based on an evaluation that at least one core spray subsystem is necessary to maintain adequate post-accident long-term core cooling.

Date of issuance: November 3, 2014.

Effective date: As of the date of issuance and shall be implemented within 90 days of issuance.

Amendment No.: 184. A publicly-available version is in ADAMS under Accession No. ML14246A449; documents related to this amendment are listed in the Safety Evaluation enclosed with the amendment.

Renewed Facility Operating License No. DPR-22: This amendment revised the Renewed Facility Operating License and the Technical Specifications.

Date of initial notice in Federal Register: August 19, 2014 (79 FR 49107).

The Commission's related evaluation of the amendment is contained in a Safety Evaluation dated November 3, 2014.

No significant hazards consideration comments received: No.

Omaha Public Power District, Docket No. 50-285, Fort Calhoun Station, Unit 1, Washington County, Nebraska

Date of amendment request: February 10, 2014, as supplemented by letter dated June 9, 2014.

Brief description of amendment: The amendment revised Technical Specification Surveillance Requirement 3.2, “Equipment and Sampling Tests,” Table 3-5, “Minimum Frequencies for Equipment Tests,” Item 3 for the pressurizer safety valves from a refueling frequency (i.e., 18 months ± 25 percent) to be consistent with the Inservice Testing Program, and made editorial changes to Table 3-5.

Date of issuance: November 6, 2014.

Effective date: As of the date of issuance and shall be implemented within 30 days from the date of issuance.

Amendment No.: 277. A publicly-available version is in ADAMS under Accession No. ML14279A275; documents related to this amendment are listed in the Safety Evaluation enclosed with the amendment.

Renewed Facility Operating License No. DPR-40: The amendment revised the Technical Specifications.

Date of initial notice in Federal Register: July 8, 2014 (79 FR 38592).

The Commission's related evaluation of the amendment is contained in a safety evaluation dated November 6, 2014.

No significant hazards consideration comments received: No.

South Carolina Electric & Gas, Docket Nos. 52-027 and 52-028, Virgil C. Summer Nuclear Station (VCSNS) Units 2 and 3, Fairfield County, South Carolina

Date of amendment request: March 13, September 25 (two letters for Licensing Amendment Request (LAR) 13-16 and LAR 13-17) and October 3, 2013 (two letters for LAR 13-18 and LAR 13-19), as supplemented by letters dated October 3, 2013, and February 10 and June 6, 2014.

Brief description of amendment: The proposed amendment involves changes to the five Human Factors Engineering (HFE) Reports (Westinghouse Electric Company and the U.S. Nuclear Regulatory Commission reviewed these reports as part of the AP1000 Design Certification Rule) that are incorporated by reference in the VCSNS Updated Final Safety Analysis Report. These are:

• HFE Design Verification Plan (APP-OCS-GEH-120) (LAR 13-16)

• HFE Task Support Verification Plan (APP-OCS-GEH-220) (LAR 13-17)

• HFE Integrated System Validation (APP-OCS-GEH-320) (LAR 13-10)

• Human Engineering Discrepancy Resolution Process (APP-OCS-GEH-420) (LAR 13-18)

• Plant Startup HFE Design Verification Plan (APP-OCS-GEH-520) (LAR 13-19)

Date of issuance: July 31, 2014.

Effective date: As of the date of issuance and shall be implemented within 30 days of issuance.

Amendment No.: 16. A publicly-available version is in ADAMS under Accession No. ML14177A486; documents related to this amendment are listed in the Safety Evaluation enclosed with the amendment.

Facility Combined Licenses No. NPF-93 and NPF-94: Amendment revised the Facility Combined Licenses.

Date of initial notice in Federal Register: May 28, 2013 (78 FR 31984 for LAR 13-10), November 12, 2013 (78 FR 67412 for LAR 13-16, 78 FR 67411 for LAR 13-17, 78 FR 67413 for LAR 13-18, and 78 FR 67413 for LAR 13-19).

The Commission's related evaluation of the amendment is contained in a Safety Evaluation dated July 31, 2014.

No significant hazards consideration comments received: No.

South Carolina Electric and Gas, Inc. Docket Nos. 52-027 and 52-028, Virgil C. Summer Nuclear Station (VCSNS) Units 2 and 3, Fairfield County, South Carolina

Date of amendment request: July 17, 2013, as supplemented by letters dated July 8, and July 11, 2014.

Brief description of amendment: The amendment revises Tier 2* and associated Tier 2 information, incorporated into the VCSNS Units 2 and 3 Updated Final Safety Analysis Report (UFSAR). Specifically, the amendment revises the following information related to fire area boundaries: (1) Various Annex Building and Turbine Building layout changes, (2) Turbine Building Stairwell S08 changes to support egress functions, and (3) an Annex Building Heating, Ventilation and Air Conditioning shaft UFSAR figure clarification.

Date of issuance: September 9, 2014.

Effective date: As of the date of issuance and shall be implemented within 30 days of issuance.

Amendment No.: 17. A publicly-available version is in ADAMS under Accession No. ML14218A687; documents related to this amendment are listed in the Safety Evaluation enclosed with the amendment.

Facility Combined Licenses No. NPF-93 and NPF-94: Amendment revised the Facility Combined Licenses.

Date of initial notice in Federal Register: October 1, 2013 (78 FR 60321). The supplements dated July 8 and July 11, 2014, provided additional information that clarified the application, did not expand the scope of the application as originally noticed, and did not change the staff's original proposed no significant hazards consideration determination as published in the Federal Register.

The Commission's related evaluation of the amendment is contained in a Safety Evaluation dated September 9, 2014.

No significant hazards consideration comments received: No.

Tennessee Valley Authority, Docket Nos. 50-259, 50-260, and 50-296, Browns Ferry Nuclear Plant, Units 1, 2, and 3, Limestone County, Alabama

Date of amendment request: April 29, 2014, as supplemented by letter dated May 27, 2014.

Brief description of amendment: The amendments revised the Cyber Security Plan Implementation Milestone No. 8 completion date and the physical protection license condition.

Date of issuance: September 29, 2014.

Effective date: As of its date of issuance and shall be implemented within 90 days.

Amendment Nos.: Unit 1-286, Unit 2-312, and Unit 3-217. A publicly-available version is in ADAMS under Accession No. ML14247A536; documents related to these amendments are listed in the Safety Evaluation (SE) enclosed with the amendments.

Renewed Facility Operating License Nos. DPR-33, DPR-52, and DPR-68. The amendments revised the Operating Licenses.

Date of initial notice in Federal Register: July 8, 2014 (79 FR 38582). The supplemental letter dated May 27, 2014, provided additional information that clarified the application, did not expand the scope of the application as originally noticed, and did not change the staff's original proposed no significant hazards consideration determination as published in the Federal Register.

The Commission's related evaluation of the amendment is contained in the SE dated September 29, 2014.

No significant hazards consideration comments received: No.

Dated at Rockville, Maryland, this 17th day of November 2014.
For the Nuclear Regulatory Commission.
Michele G. Evans,
Director, Division of Operating Reactor Licensing, Office of Nuclear Reactor Regulation.

[FR Doc. 2014-27630 Filed 11-24-14; 8:45 am]

BILLING CODE 7590-01-P